NUCLEAR REGULATORY COMMISSION

[Docket Nos. 50-286; NRC-2013-0063]

Entergy Nuclear Operations, Inc., Indian Point Nuclear Generating Unit No. 3 Extension of Public Comment Period

AGENCY: Nuclear Regulatory Commission.

ACTION: Draft environmental assessment and finding of no significant impact; extension of public comment period.

SUMMARY: This document modifies a notice appearing in the Federal Register on April 3, 2013 (78 FR 20144), by extending the original public comment period from May 3, 2013, to June 3, 2013. This action was requested by concerned stakeholders who sought additional time to provide comments.

FOR FURTHER INFORMATION CONTACT: Douglas V. Pickett, Senior Project Manager, Office of Nuclear Reactor Regulation, U.S. Nuclear Regulatory Commission, Washington, DC 20555-0001; telephone (301) 415-1364, email: Douglas.Pickett@nrc.gov.

SUPPLEMENTARY INFORMATION: On page 20144, in the third column, in the paragraph entitled DATES, the closing of the public comment period was May 3, 2013. This date has been extended to June 3, 2013.

Dated in Rockville, Maryland, this 30th day of April 2013.
For the Nuclear Regulatory Commission.
Sean C. Meighan,
Acting Chief, Plant Licensing Branch I-1, Division of Operating Reactor Licensing, Office of Nuclear Reactor Regulation.

[FR Doc. 2013-10792 Filed 5-6-13; 8:45 am]

BILLING CODE 7590-01-P